DEPARTMENT OF HOMELAND SECURITY

Coast Guard

33 CFR Part 117

[Docket No. USCG-2013-0375]

Drawbridge Operation Regulation; New Jersey Intracoastal Waterway (NJICW), Atlantic City, NJ

AGENCY: Coast Guard, DHS.

ACTION: Notice of deviation from drawbridge regulations.

SUMMARY: The Coast Guard has issued a temporary deviation from the operating schedules that govern the Route 30/Absecon Boulevard Bridge across Beach Thorofare, NJICW mile 67.2 and the US40-322 (Albany Avenue) across Inside Thorofare, NJICW mile 70.0, both at Atlantic City, NJ. This deviation allows the drawbridges to remain closed-to-navigation to accommodate the free movement of vehicles during the re-scheduled 2013 Atlantic City Air Show.

DATES: This deviation is effective on Wednesday June 26, 2013, from 9 a.m. until 12 noon and again from 3 p.m. until 6 p.m.

ADDRESSES: The docket for this deviation, USCG-2013-0375, is available at http://www.regulations.gov. Type the docket number in the “SEARCH” box and click “SEARCH”. Click on Open Docket Folder on the line associated with this deviation. You may also visit the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Terrance Knowles, Environmental Protection Specialist, Fifth Coast Guard District; telephone 757-398-6587, email Terrance.A.Knowles@uscg.mil. If you have questions on viewing the docket, call Barbara Hairston, Program Manager, Docket Operations, telephone 202-366-9826.

SUPPLEMENTARY INFORMATION: The New Jersey Department of Transportation requested a temporary deviation from the current operating regulations of the Route 30/Absecon Boulevard Bridge across Beach Thorofare, NJICW mile 67.2 and the US40-322 (Albany Avenue) across Inside Thorofare, NJICW mile 70.0, both at Atlantic City, NJ. The temporary deviation has been requested to ensure the safety of the heavy numbers of pedestrians and vehicular traffic that would be transiting over the bridges for the re-scheduled air show at Bader Field located within the city limits. Under this temporary deviation, both bridges will be closed, effective on Wednesday June 26, 2013, from 9 a.m. until 12 noon and again from 3 p.m. until 6 p.m. Between 12 noon and 3 p.m. on Wednesday June 26, 2013 both bridges will return to their regular operating schedules.

Route 30/Absecon Boulevard Bridge

The current operating regulation for the Route 30/Absecon Boulevard Bridge across Beach Thorofare is outlined at 33 CFR 117.733(e) which requires that the bridge shall open on signal if at least four hours of notice is given; except that from April 1 through October 31, from 7 a.m. to 11 p.m., the draw need only open on the hour; on July 4, the draw need not open from 9:40 p.m. until 11:15 p.m. to accommodate the annual July 4th fireworks show. Should inclement weather prevent the fireworks event from taking place as planned, the draw need not open from 9:40 p.m. until 11:15 p.m. on July 5th to accommodate the annual July 4th fireworks show; and on the third or fourth Wednesday of August the draw will open every two hours on the hour from 10 a.m. until 4 p.m. and need not open from 4 p.m. until 8 p.m. to accommodate the annual Air Show. In the closed position to vessels, the vertical clearance for this bascule-type bridge is 20 feet, above mean high water.

US40-322 (Albany Avenue) Bridge

The current operating regulation for the US40-322 (Albany Avenue) Bridge across Inside Thorofare is outlined at 33 CFR 117.733(f) shall open on signal except that year-round, from 11 p.m. to 7 a.m.; and from November 1 through March 31 from 3 p.m. to 11 p.m., the draw need only open if at least four hours notice is given; from June 1 through September 30, from 9 a.m. to 4 p.m. and from 6 p.m. to 9 p.m., the draw need only open on the hour and half hour; and from 4 p.m. to 6 p.m., the draw need not open; on July 4, the draw need not open from 9:40 p.m. until 11:15 p.m., to accommodate the annual July 4th fireworks show. Should inclement weather prevent the fireworks event from taking place as planned, the draw need not open from 9:40 p.m. until 11:15 p.m. on July 5th to accommodate the annual July 4th fireworks show; and on the third or fourth Wednesday of August, the draw will open every two hours on the hour from 10 a.m. until 4 p.m. and need not open from 4 p.m. until 8 p.m. to accommodate the annual Air Show. In the closed position to vessels, the vertical clearance for this bascule-type bridge is 10 feet, above mean high water.

The majority of the vessels that transit the bridges this time of the year are recreational boats. Vessels able to pass through the bridges in the closed positions may do so at anytime. Both bridges will be able to open for emergencies. The Atlantic Ocean is an alternate route for vessels unable to pass through the bridges in closed positions. The Coast Guard will also inform the users of the waterways through our Local and Broadcast Notices to Mariners of the closure periods for the bridge so that vessels can arrange their transits to minimize any impact caused by the temporary deviation.

In accordance with 33 CFR 117.35(e), the drawbridges must return to their regular operating schedules immediately at the end of the designated time period. This deviation from the operating regulations is authorized under 33 CFR 117.35.

Dated: May 10, 2013.
Waverly W. Gregory, Jr.,
Bridge Program Manager, Fifth Coast Guard District.

[FR Doc. 2013-12028 Filed 5-20-13; 8:45 am]

BILLING CODE 9110-04-P